DEPARTMENT OF LABOR

Employment and Training Administration

[TA-W-62,939; TA-W-62,939A]

Johnson Rubber Company, Including On-Site Leased Workers From Ryan Temps, Champion Staffing, SMI Professional, Tech Temps and Robert Half Management Resources, North Baltimore, OH; Johnson Rubber Company, Including On-Site Leased Workers From Ryan Temps, Champion Staffing, SMI Professional, Tech Temps and Robert Half Management Resources, Middlefield, OH; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification of Eligibility to Apply for Worker Adjustment Assistance and Alternative Trade Adjustment Assistance on March 14, 2008, applicable to workers of Johnson Rubber Company, including on-site leased workers from Ryan Temps and Champion Staffing, North Baltimore, Ohio and Middlefield, Ohio. The notice was published in the Federal Register on March 26, 2008 (73 FR 16063).

At the request of the State agency, the Department reviewed the certification for workers of the subject firm. The workers are engaged in the production of rubber automotive, industrial, marine and military parts.

New information shows that leased workers of SMI Professional, Tech Temps and Robert Half Management Resources were employed on-site at the North Baltimore, Ohio and Middlefield, Ohio locations of Johnson Rubber Company. The Department has determined that these workers were sufficiently under the control of the subject firm to be considered leased workers.

Based on these findings, the Department is amending this certification to include leased workers of SMI Professional, Tech Temps and Robert Half Management Resources working on-site at the North Baltimore, Ohio and Middlefield, Ohio locations of the subject firm.

The intent of the Department's certification is to include all workers employed at Johnson Rubber Company, North Baltimore, Ohio and Middlefield, Ohio who were adversely affected by increased imports and by a shift in production to China and Mexico.

The amended notice applicable to TA-W-62,939 and TA-W-62,939A are hereby issued as follows:

All workers of Johnson Rubber Company, including on-site leased workers from Ryan Temps, Champion Staffing, SMI Professional, Tech Temps and Robert Half Management Resources, North Baltimore, Ohio (TA-W-62,939) and all workers of Johnson Rubber Company, including on-site leased workers from Ryan Temps, Champion Staffing, SMI Professional, Tech Temps and Robert Half Management Resources, Middlefield, Ohio (TA-W-62,939A), who became totally or partially separated from employment on or after March 1, 2007, through March 14, 2010, are eligible to apply for adjustment assistance under Section 223 of the Trade Act of 1974, and are also eligible to apply for alternative trade adjustment assistance under Section 246 of the Trade Act of 1974.

Signed at Washington, DC, this 8th day of April 2008.
Elliott S. Kushner,
Certifying Officer, Division of Trade Adjustment Assistance.

[FR Doc. E8-8250 Filed 4-16-08; 8:45 am]

BILLING CODE 4510-FN-P